DEPARTMENT OF LABOR

Office of Workers' Compensation Programs

Memorandum for the Heads of Executive Departments and Agencies on the PEER Initiative: Protecting Employees, Enabling Reemployment

SUMMARY: The Office of Management and Budget has directed the Secretary of Labor to publish a memorandum on the PEER Initiative in the Federal Register, as part of the President's Management Agenda—Modernizing Government for the 21st Century and the President's Initiative to Stop Opioid Abuse and Reduce Drug Supply and Demand. Federal agencies and the United States Postal Service are expected to improve or maintain performance in seven areas related to work-related injuries.

SUPPLEMENTARY INFORMATION: Each year, federal civilian employees sustain work-related injuries and illnesses. In 2018, federal workers filed almost 107,000 new claims and received approximately $3 billion in workers' compensation payments. Many of these work-related injuries and illnesses are preventable, and executive departments and agencies can and should do more to improve workplace safety and health, improve efficiencies, reduce the financial burden of injury on taxpayers, and relieve unnecessary suffering by workers and their families.

Therefore, the Protecting Employees, Enabling Reemployment (PEER) Initiative is being created to set forth goals to achieve these important objectives and supports the President's Management Agenda—Modernizing Government for the 21 Century and the President's Initiative to Stop Opioid Abuse and Reduce Drug Supply and Demand. Federal agencies and the United States Postal Service are expected to improve or maintain performance in seven areas:

1. Reducing total injury and illness case rates;

2. reducing lost-time injury and illness case rates;

3. increasing the timely filing rate for workers' compensation claims;

4. increasing the timely filing rate for wage-loss claims;

5. increasing the rate of return-to-work outcomes during the initial 45 day post-injury period for traumatic injury cases;

6. improving the rate at which employees return to work in cases of moderate to severe injury or illness; and

7. implementing and fully using the Department of Labor's electronic filing system.

Goals one through six measure reductions in workplace injuries, reductions in time off work because of injuries, improvements in return-to-work, and improving the rate of timely filed claims, all of which help relieve unnecessary suffering by workers and reduce the financial burden of injury on taxpayers. The seventh goal will standardize the claims process. It will also aid in direct and immediate communication with an injured employee, facilitating prompt treatment and providing critical opioid awareness and pain education.

Executive departments and agencies shall coordinate with the Department of Labor's Occupational Safety and Health Administration and Office of Workers' Compensation Programs to develop strategies aimed at achieving performance targets in each category. The Secretary of Labor shall lead the initiative by measuring both government-wide and agency-level performance. Each executive department and agency shall bear its own costs for participating in the PEER Initiative. Nothing in this memorandum shall be construed to impair or otherwise affect the authority granted by law to an executive department or agency, or the head thereof. This memorandum is not intended to, and does not, create any right or benefit, substantive or procedural, enforceable by law or in equity by any party against the United States; its departments, agencies, or entities; its officers, employees, or agents; or any other person.

Signed at Washington, DC, this 26th day of February, 2020.
Julia K. Hearthway,
Director, Office of Workers' Compensation Programs.

BILLING CODE 4510-24-P

[FR Doc. 2020-04390 Filed 3-3-20; 8:45 am]

BILLING CODE 4510-24-C